NUCLEAR REGULATORY COMMISSION

[Docket Nos. 50-247 & 50-286 and License Nos. DPR 26 & DPR 64]

Entergy Nuclear Operating Company, Indian Point Nuclear Generating Unit Nos. 2 and 3; Receipt of Request for Action Under 10 CFR 2.206

Notice is hereby given that by Petition dated September 8, 2003, as supplemented by letter dated September 22, 2003, submitted by Riverkeeper and the Union of Concerned Scientists (collectively, the Petitioners), the U.S. Nuclear Regulatory Commission (NRC) has been requested to take enforcement actions against Entergy Nuclear Operation Inc. (Entergy), the licensee for Indian Point Nuclear Generating, Units Nos. 2 and 3, (IP2 and 3) in Buchanan, New York, and the Petitioners requested as an alternative enforcement action that the NRC prevent plant restart until certain conditions have been met with additional restrictions in the interim.

As the bases for the request to have the NRC take enforcement actions against the licensee, the Petitioners assert that the continued operations of IP2 and 3 present a public health hazard because of a lack of reasonable assurance that the containment sumps will be able to perform their safety function. The request is based on publically available reports published by the NRC. The Petitioners assert that this action is entirely consistent with actions taken by the NRC for the Donald C. Cook and Davis-Besse nuclear plants.

The request is being treated pursuant to 10 CFR 2.206 of the Commission's regulations. The request has been referred to the Director of the NRC's Office of Nuclear Reactor Regulation (NRR). As provided by Section 2.206, appropriate action will be taken on this Petition within a reasonable time.

A copy of the Petition is available in the Agencywide Documents Access and Management System (ADAMS) for inspection at the Commission's Public Document Room (PDR), located at One White Flint North, 11555 Rockville Pike (first floor), Rockville, Maryland, and from the ADAMS Public Library component on the NRC's Web site, http://www.nrc.gov/reading-rm/adams.html (the Public Electronic Reading Room), using Accession No. ML032580235. Persons who do not have access to ADAMS or who encounter problems in accessing the documents located in ADAMS should contact the NRC's PDR reference staff by telephone at 1-800-397-4209 or 301-415-4737 or by e-mail to pdr@nrc.gov.

Dated at Rockville, Maryland this 23rd day of October 2003.
For the Nuclear Regulatory Commission.
R. William Borchardt,
Acting Director, Office of Nuclear Reactor Regulation.

[FR Doc. 03-27215 Filed 10-28-03; 8:45 am]

BILLING CODE 7590-01-P